DEPARTMENT OF DEFENSE

Department of the Army

Prospective Grant of Exclusive Patent License

AGENCY: Department of the Army, DoD.

ACTION: Notice.

SUMMARY: In accordance with 35 U.S.C. 209 and 37 CFR 404.7, U.S. Army Soldier and Biological Chemical Command (SBCCOM) hereby gives notice that it is contemplating the grant of an exclusive license in the United States to practice the below referenced inventions owned by the U.S. Government to CBTEK, L.L.C., 2607 Holman Avenue, Silver Spring, MD 20910.

FOR FURTHER INFORMATION CONTACT: Mr. John Biffoni, Intellectual Property Attorney, U.S. Army Soldier and Biological Chemical Command, ATTN: AMSSB-CC (Bldg E4435), Aberdeen Proving Ground, MD 21010-5424, Phone: (410) 436-1158; Fax: 410-436-2534 or E-mail: John.Biffoni@sbccom.apgea.army.mil.

SUPPLEMENTARY INFORMATION: The prospective exclusive license may be granted, unless SBCCOM receives written evidence and argument to establish that the grant of the license would not be consistent with the requirements of 35 U.S.C. 209 and 37 CFR 404.7 on or before November 8, 2002. The following Patent Numbers, Titles and Issue dates are provided:

1. Title: “Hand-Held Temperature programmable Modular Gas Chromatograph.”

Description: The present invention relates to a gas chromatograph system of reduced size, weight and low power consumption for hand-held field applications. More particularly, to a modular gas chromatography system, which is capable of being interfaced with other portable analyzers.

Patent Number: 5,856,616.

Issue Date: January 5, 1999.

2. Title: “Biological Classification System.”

Description: The present invention relates to a hand-held chemical vapor detector for detecting biological substances in an indoor and outdoor setting. More specifically, the invention relates to a plasma chromatograph (PC) vapor detector that is interfaced to a biological sample processing and transfer introduction system.

Patent Application Number: 10/205,356.

Filed: 07/25/2002.

3. Title: “Injection Valves.”

Description: The present invention relates generally to the field of valves and, in particular, to an alternative method for injecting sample fluids into chromatography columns.

Patent Application Number: Not yet assigned.

Filed: 09/11/02.

Luz D. Ortiz,
Army Federal Register Liaison Officer.

[FR Doc. 02-27154 Filed 10-23-02; 8:45 am]

BILLING CODE 3710-08-M